DEPARTMENT OF COMMERCE

Foreign-Trade Zones Board

Facilitating the Use of Foreign-Trade Zones by Small and Medium-Sized Manufacturers

Two years ago, as part of the Department of Commerce's manufacturing initiative, the Foreign-Trade Zones (FTZ) Board published proposals designed to enhance access and reduce the FTZ program's costs, particularly for small and medium-sized manufacturers, thereby helping to improve such companies' international competitiveness. The proposals resulted in implementation of a new procedure for temporary/interim manufacturing (T/IM) authority, new application guidelines/forms, and increased outreach. Now, after eighteen months of experience in administering the new procedures and guidelines, the FTZ Board is assessing two possible proposals for improvements.

One possible improvement could involve modifying the T/IM procedure to define eligibility for application consideration on the basis of broader product and input categories than is currently the practice. However, T/IM applicants would still be required to explain the specific activity which they seek to conduct under T/IM procedures, including the degree of similarity of requested products/inputs to already approved products/inputs in the T/IM database. Modification of the T/IM procedure would leave most current elements of T/IM practice in place, including limitation to non-complex, non-controversial proposals, the requirement for a 30-day public comment period on any T/IM proposal, the practice of consultation with appropriate industry experts within government, and the FTZ Board Executive Secretary's discretion to refer any T/IM case to the full FTZ Board. A particular benefit of modifying the T/IM procedure, as outlined above, could be to give manufacturers already operating in FTZs/subzones greater ability to react quickly to new challenges or opportunities.

A second possible improvement could involve providing further guidance to potential applicants or FTZ users on the parameters of the scope of a given application/grant of authority. The focus would be on means of ensuring flexibility for users while maintaining a meaningful application review process for the FTZ Board and potential interested parties.

Public comment on these possible improvements is invited from interested parties. We ask that parties fax a copy of their comments, addressed to the Board's Executive Secretary, to (202) 482-0002. We also ask that parties submit the original of their comments to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230.

The closing period for the receipt of public comments is May 25, 2006. Any questions about this request for comments may be directed to the FTZ Board staff at (202) 482-2862.

Dated: April 20, 2006.
Dennis Puccinelli,
Executive Secretary.

[FR Doc. E6-6223 Filed 4-24-06; 8:45 am]

BILLING CODE 3510-DS-P